AGENCY FOR INTERNATIONAL DEVELOPMENT

Notice of Public Information Collection Requirements Submitted to OMB for Review

SUMMARY: U.S. Agency for International Development (USAID) has submitted the following information collections to OMB for review and clearance under the Paperwork Reduction Act of 1995, Public Law 104-13. Comments regarding this information collection are best assured of having their full effect if received within 30 days of this notification. Comments should be sent via e-mail to David_Rostker@omb.eop.gov or fax to 202-395-7285. Copies of submission may be obtained by calling (202) 712-1365.

SUPPLEMENTARY INFORMATION:

OMB Number: OMB 0412-NEW.

Form Number: N/A.

Title: Partner Information Form.

Type of Submission: New Information Collection.

Purpose: The United States Agency for International Development (USAID). Office of Security, intends to collect information from approximately 2000 individuals and/or officers of non-governmental organizations (NGOs) who apply for USAID contracts, grants, cooperative agreements, other funding from USAID, or who apply for registration with USAID as Private and Voluntary Organizations (PVO). Collection of personally identifiable information from these individuals is specifically used to conduct screening to ensure that neither USAID funds nor USAID-funded activities inadvertently provide support to entities or individuals associated with terrorism.

Annual Reporting Burden

Respondents: 2000.

Total annual responses: 2000.

Total annual hours requested: 500 hours.

Dated: November 27, 2007.
Joanne Paskar,
Chief, Information and Records Division Office of Administrative Services Bureau for Management.

[FR Doc. 07-5935 Filed 12-4-07; 8:45 am]

BILLING CODE 6116-01-M